DEPARTMENT OF TRANSPORTATION

Federal Aviation Administration

14 CFR Part 97

[Docket No. 30978; Amdt. No. 3608]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 24, 2014. The compliance date for each SIAP, associated Takeoff Minimums, and ODP is specified in the amendatory provisions.

The incorporation by reference of certain publications listed in the regulations is approved by the Director of the Federal Register as of October 24, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on August 29, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

§§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
16-Oct-14 | IN | Angola | Tri-State Steuben County | 4/0713 | 08/25/14 | RNAV (GPS) RWY 5, Orig-B
16-Oct-14 | IN | Angola | Tri-State Steuben County | 4/0714 | 08/25/14 | NDB RWY 5, Amdt 7A
16-Oct-14 | IN | Angola | Tri-State Steuben County | 4/0715 | 08/25/14 | RNAV (GPS) RWY 23, Orig-A
16-Oct-14 | IN | Goshen | Goshen Muni | 4/0972 | 08/26/14 | VOR RWY 9, Amdt 12A
16-Oct-14 | IN | Goshen | Goshen Muni | 4/0977 | 08/26/14 | RNAV (GPS) RWY 9, Orig
16-Oct-14 | KS | Topeka | Philip Billard Muni | 4/1021 | 08/26/14 | RNAV (GPS) RWY 13, Amdt 1
16-Oct-14 | KS | Topeka | Philip Billard Muni | 4/1025 | 08/26/14 | RNAV (GPS) RWY 31, Amdt 1
16-Oct-14 | KS | Topeka | Philip Billard Muni | 4/1035 | 08/26/14 | RNAV (GPS) RWY 36, Amdt 1
16-Oct-14 | KS | Topeka | Philip Billard Muni | 4/1036 | 08/26/14 | RNAV (GPS) RWY 18, Amdt 2
16-Oct-14 | KS | Topeka | Philip Billard Muni | 4/1040 | 08/26/14 | LOC BC RWY 31, Amdt 19A
16-Oct-14 | IN | Terre Haute | Terre Haute Intl-Hulman Field | 4/1053 | 08/26/14 | RNAV (GPS) RWY 23, Amdt 1
16-Oct-14 | IN | Terre Haute | Terre Haute Intl-Hulman Field | 4/1062 | 08/26/14 | LOC BC RWY 23, Amdt 19A
16-Oct-14 | IN | Terre Haute | Terre Haute Intl-Hulman Field | 4/1079 | 08/26/14 | VOR RWY 23, Amdt 20B
16-Oct-14 | RI | Providence | Theodore Francis Green State | 4/1192 | 08/25/14 | RNAV (GPS) RWY 16, Orig-B
16-Oct-14 | NY | Monticello | Sullivan County Intl | 4/1196 | 08/25/14 | NDB RWY 15, Amdt 7A
16-Oct-14 | NY | Monticello | Sullivan County Intl | 4/1198 | 08/25/14 | ILS OR LOC RWY 15, Amdt 5D
16-Oct-14 | TX | Caddo Mills | Caddo Mills Muni | 4/1216 | 08/25/14 | Takeoff Minimums and (Obstacle) DP, Orig
16-Oct-14 | TX | Caddo Mills | Caddo Mills Muni | 4/1217 | 08/25/14 | RNAV (GPS) RWY 36, Orig
16-Oct-14 | TX | Caddo Mills | Caddo Mills Muni | 4/1218 | 08/25/14 | NDB RWY 36, Amdt 2B
16-Oct-14 | TN | Fayetteville | Fayetteville Muni | 4/1299 | 08/25/14 | VOR/DME RWY 2, Orig-D
16-Oct-14 | TN | Fayetteville | Fayetteville Muni | 4/1300 | 08/25/14 | NDB RWY 20, Amdt 5
16-Oct-14 | VA | Warrenton | Warrenton-Fauquier | 4/1305 | 08/22/14 | RNAV (GPS) RWY 15, Amdt 1
16-Oct-14 | VA | Warrenton | Warrenton-Fauquier | 4/1306 | 08/22/14 | VOR RWY 15, Amdt 4B
16-Oct-14 | VA | Warrenton | Warrenton-Fauquier | 4/1309 | 08/22/14 | LOC/DME RWY 15, Orig
16-Oct-14 | PA | Greenville | Greenville Muni | 4/1312 | 08/25/14 | VOR OR GPS A, Amdt 1
16-Oct-14 | VA | Warrenton | Warrenton-Fauquier | 4/1313 | 08/22/14 | RNAV (GPS) RWY 33, Orig
16-Oct-14 | PA | Philadelphia | Philadelphia Intl | 4/1344 | 08/26/14 | RNAV (GPS) RWY 26, Amdt 1A
16-Oct-14 | PA | Philadelphia | Philadelphia Intl | 4/1345 | 08/26/14 | ILS OR LOC RWY 26, Amdt 4A
16-Oct-14 | PA | Philadelphia | Philadelphia Intl | 4/1349 | 08/26/14 | RNAV (GPS) RWY 27L, Amdt 1A
16-Oct-14 | PA | Philadelphia | Philadelphia Intl | 4/1350 | 08/26/14 | ILS OR LOC RWY 27L, Amdt 12B
16-Oct-14 | AL | Bessemer | Bessemer | 4/1539 | 08/25/14 | VOR RWY 5, Amdt 6
16-Oct-14 | PA | Bradford | Bradford Rgnl | 4/1834 | 08/22/14 | RNAV (GPS) RWY 14, Amdt 1A
16-Oct-14 | PA | Bradford | Bradford Rgnl | 4/1839 | 08/22/14 | ILS OR LOC RWY 32, Amdt 12A
16-Oct-14 | PA | Bradford | Bradford Rgnl | 4/1840 | 08/22/14 | RNAV (GPS) RWY 32, Amdt 1B
16-Oct-14 | GA | Donalsonville | Donalsonville Muni | 4/2294 | 08/22/14 | RNAV (GPS) RWY 36, Amdt 1
16-Oct-14 | TX | Waco | TSTC Waco | 4/2340 | 08/26/14 | ILS OR LOC RWY 17L, Amdt 13
16-Oct-14 | CT | Danielson | Danielson | 4/2471 | 08/26/14 | VOR A, Amdt 6D
16-Oct-14 | NC | Asheboro | Asheboro Rgnl | 4/2518 | 08/25/14 | VOR A, Amdt 3
16-Oct-14 | IA | Burlington | Southeast Iowa Rgnl | 4/2723 | 08/22/14 | RNAV (GPS) RWY 30, Amdt 1
16-Oct-14 | KY | Madisonville | Madisonville Muni | 4/2790 | 08/26/14 | RNAV (GPS) RWY 5, Orig
16-Oct-14 | KY | Madisonville | Madisonville Muni | 4/2792 | 08/26/14 | RNAV (GPS) RWY 23, Orig
16-Oct-14 | KY | Madisonville | Madisonville Muni | 4/2793 | 08/26/14 | VOR RWY 23, Amdt 14
16-Oct-14 | NY | Shirley | Brookhaven | 4/2904 | 08/26/14 | RNAV (GPS) Y RWY 24, Amdt 1
16-Oct-14 | VA | Hot Springs | Ingalls Field | 4/2910 | 08/26/14 | ILS OR LOC RWY 25, Amdt 4
16-Oct-14 | MA | Mansfield | Mansfield Muni | 4/2911 | 08/22/14 | RNAV (GPS) RWY 32, Orig-A
16-Oct-14 | PA | Harrisburg | Capital City | 4/2942 | 08/26/14 | RNAV (GPS) RWY 26, Orig-A
16-Oct-14 | TX | El Paso | El Paso Intl | 4/3641 | 08/22/14 | RNAV (RNP) Z RWY 26L, Amdt 1
16-Oct-14 | TX | El Paso | El Paso Intl | 4/3642 | 08/22/14 | RNAV (RNP) Z RWY 22, Amdt 1
16-Oct-14 | TX | El Paso | El Paso Intl | 4/3643 | 08/22/14 | RNAV (GPS) X RWY 4, Orig-B
16-Oct-14 | TX | El Paso | El Paso Intl | 4/3650 | 08/22/14 | RNAV (RNP) Y RWY 4, Orig-C
16-Oct-14 | TX | El Paso | El Paso Intl | 4/3654 | 08/22/14 | RNAV (RNP) Z RWY 4, Orig-B
16-Oct-14 | TX | El Paso | El Paso Intl | 4/3655 | 08/22/14 | RNAV (GPS) Y RWY 26L, Amdt 1A
16-Oct-14 | TX | El Paso | El Paso Intl | 4/3656 | 08/22/14 | VOR RWY 26L, Amdt 32
16-Oct-14 | LA | Monroe | Monroe Rgnl | 4/3691 | 08/22/14 | VOR/DME RWY 32, Amdt 4
16-Oct-14 | LA | Monroe | Monroe Rgnl | 4/3692 | 08/22/14 | VOR/DME RWY 22, Amdt 9
16-Oct-14 | LA | Monroe | Monroe Rgnl | 4/3693 | 08/22/14 | ILS OR LOC RWY 22, Amdt 4
16-Oct-14 | LA | Monroe | Monroe Rgnl | 4/3694 | 08/22/14 | ILS OR LOC RWY 4, Amdt 23
16-Oct-14 | LA | Monroe | Monroe Rgnl | 4/3695 | 08/22/14 | RNAV (GPS) RWY 32, Orig-A
16-Oct-14 | LA | Monroe | Monroe Rgnl | 4/3696 | 08/22/14 | VOR RWY 4, Amdt 18
16-Oct-14 | LA | Monroe | Monroe Rgnl | 4/3697 | 08/22/14 | RNAV (GPS) RWY 4, Amdt 1
16-Oct-14 | LA | Monroe | Monroe Rgnl | 4/3699 | 08/22/14 | VOR RWY 22, Amdt 5
16-Oct-14 | LA | Monroe | Monroe Rgnl | 4/3700 | 08/22/14 | RNAV (GPS) RWY 22, Amdt 1
16-Oct-14 | LA | Monroe | Monroe Rgnl | 4/3701 | 08/22/14 | VOR/DME RWY 4, Amdt 3
16-Oct-14 | MI | Detroit | Coleman A. Young Muni | 4/3766 | 08/22/14 | ILS OR LOC RWY 15, Amdt 10
16-Oct-14 | MO | St Louis | Lambert-St Louis Intl | 4/3794 | 08/26/14 | RNAV (RNP) Z RWY 29, Orig
16-Oct-14 | MO | St Louis | Lambert-St Louis Intl | 4/3795 | 08/26/14 | RNAV (RNP) Z RWY 11, Orig
16-Oct-14 | MO | St Louis | Lambert-St Louis Intl | 4/3796 | 08/26/14 | RNAV (GPS) RWY 24, Amdt 1A
16-Oct-14 | MO | St Louis | Lambert-St Louis Intl | 4/3798 | 08/26/14 | RNAV (RNP) Z RWY 30R, Orig
16-Oct-14 | MO | St Louis | Lambert-St Louis Intl | 4/3799 | 08/26/14 | RNAV (RNP) Z RWY 12L, Orig
16-Oct-14 | MO | St Louis | Lambert-St Louis Intl | 4/3800 | 08/26/14 | RNAV (GPS) RWY 6, Amdt 1A
16-Oct-14 | IA | Burlington | Southeast Iowa Rgnl | 4/3857 | 08/22/14 | VOR RWY 30, Amdt 13A
16-Oct-14 | PA | Perkasie | Pennridge | 4/3952 | 08/26/14 | RNAV (GPS) RWY 26, Orig-A
16-Oct-14 | PA | Perkasie | Pennridge | 4/3953 | 08/26/14 | RNAV (GPS) RWY 8, Amdt 1A
16-Oct-14 | NC | Raleigh/Durham | Raleigh-Durham Intl | 4/3969 | 08/26/14 | VOR RWY 23L, Amdt 14D
16-Oct-14 | HI | Hilo | Hilo Intl | 4/4084 | 08/26/14 | RNAV (GPS) RWY 26, Orig-B
16-Oct-14 | AZ | Mesa | Falcon Fld | 4/4135 | 08/26/14 | RNAV (GPS) RWY 4R, Amdt 1B
16-Oct-14 | NY | Plattsburgh | Plattsburgh Intl | 4/5059 | 08/26/14 | RNAV (GPS) RWY 17, Amdt 1A
16-Oct-14 | CA | Paso Robles | Paso Robles Muni | 4/5348 | 08/25/14 | VOR/DME RWY 19, Amdt 4A
16-Oct-14 | MS | Columbus/W Point/Starkville | Golden Triangle Rgnl | 4/5592 | 08/22/14 | ILS OR LOC RWY 18, Amdt 8
16-Oct-14 | GA | Griffin | Griffin-Spalding County | 4/5743 | 08/25/14 | RNAV (GPS) RWY 32, Orig-A
16-Oct-14 | GA | Griffin | Griffin-Spalding County | 4/5744 | 08/25/14 | RNAV (GPS) RWY 14, Orig-B
16-Oct-14 | FL | Venice | Venice Muni | 4/6070 | 08/25/14 | RNAV (GPS) RWY 5, Orig-A
16-Oct-14 | FL | Venice | Venice Muni | 4/6091 | 08/25/14 | RNAV (GPS) RWY 31, Amdt 1A
16-Oct-14 | FL | Venice | Venice Muni | 4/6093 | 08/25/14 | RNAV (GPS) RWY 23, Orig-A
16-Oct-14 | FL | Venice | Venice Muni | 4/6105 | 08/25/14 | RNAV (GPS) RWY 13, Amdt 1A
16-Oct-14 | FL | Venice | Venice Muni | 4/6110 | 08/25/14 | NDB RWY 31, Amdt 2A
16-Oct-14 | TX | Brownsville | Brownsville/South Padre Island Intl | 4/7288 | 08/22/14 | ILS OR LOC RWY 13R, Amdt 1A
16-Oct-14 | TX | Ballinger | Bruce Field | 4/7291 | 08/22/14 | RNAV (GPS) RWY 17, Orig
16-Oct-14 | TX | Brownsville | Brownsville/South Padre Island Intl | 4/7295 | 08/22/14 | RNAV (GPS) RWY 13R, Amdt 2
16-Oct-14 | TX | Amarillo | Tradewind | 4/7297 | 08/22/14 | RNAV (GPS) RWY 35, Orig
16-Oct-14 | TX | Austin | Austin-Bergstrom Intl | 4/7303 | 08/26/14 | RNAV (GPS) RWY 35R, Amdt 1
16-Oct-14 | TX | Austin | Austin-Bergstrom Intl | 4/7317 | 08/26/14 | ILS OR LOC RWY 35R, Amdt 2
16-Oct-14 | TX | Austin | Austin-Bergstrom Intl | 4/7318 | 08/26/14 | RNAV (GPS) RWY 35L, Amdt 1
16-Oct-14 | TX | Austin | Austin-Bergstrom Intl | 4/7319 | 08/26/14 | ILS OR LOC RWY 35L, Amdt 5A
16-Oct-14 | TX | Big Spring | Big Spring Mc Mahon-Wrinkle | 4/7320 | 08/22/14 | RNAV (GPS) RWY 6, Orig
16-Oct-14 | TX | Bonham | Jones Field | 4/7321 | 08/22/14 | RNAV (GPS) RWY 35, Amdt 1
16-Oct-14 | TX | Breckenridge | Stephens County | 4/7322 | 08/22/14 | RNAV (GPS) RWY 17, Orig
16-Oct-14 | TX | Brenham | Brenham Muni | 4/7323 | 08/22/14 | RNAV (GPS) RWY 34, Amdt 2
16-Oct-14 | TX | Caldwell | Caldwell Muni | 4/7324 | 08/22/14 | RNAV (GPS) RWY 33, Orig
16-Oct-14 | TX | Bryan | Coulter Field | 4/7325 | 08/22/14 | RNAV (GPS) RWY 15, Amdt 1
16-Oct-14 | ND | Rugby | Rugby Muni | 4/7562 | 08/26/14 | RNAV (GPS) RWY 30, Orig
16-Oct-14 | KS | Meade | Meade Muni | 4/7576 | 08/22/14 | RNAV (GPS) RWY 35, Orig
16-Oct-14 | KS | Ottawa | Ottawa Muni | 4/7579 | 08/22/14 | RNAV (GPS) RWY 35, Amdt 1
16-Oct-14 | KS | Paola | Miami County | 4/7580 | 08/22/14 | RNAV (GPS) RWY 3, Amdt 1
16-Oct-14 | KS | Pittsburg | Atkinson Muni | 4/7587 | 08/26/14 | RNAV (GPS) RWY 34, Amdt 2A
16-Oct-14 | KS | Marysville | Marysville Muni | 4/7588 | 08/22/14 | RNAV (GPS) RWY 16, Orig
16-Oct-14 | KS | Pittsburg | Atkinson Muni | 4/7589 | 08/26/14 | RNAV (GPS) RWY 22, Amdt 1A
16-Oct-14 | KS | Marysville | Marysville Muni | 4/7590 | 08/22/14 | RNAV (GPS) RWY 34, Orig
16-Oct-14 | ND | Rugby | Rugby Muni | 4/7611 | 08/26/14 | RNAV (GPS) RWY 12, Orig
16-Oct-14 | OR | Ontario | Ontario Muni | 4/7954 | 08/25/14 | NDB RWY 32, Amdt 5A
16-Oct-14 | SD | Wagner | Wagner Muni | 4/8915 | 08/22/14 | RNAV (GPS) RWY 9, Orig
16-Oct-14 | OH | Batavia | Clermont County | 4/9454 | 08/25/14 | RNAV (GPS) RWY 22, Amdt 1A
16-Oct-14 | TX | Waco | TSTC Waco | 4/9625 | 08/26/14 | RNAV (GPS) RWY 17L, Amdt 1

[FR Doc. 2014-25016 Filed 10-23-14; 8:45 am]

BILLING CODE 4910-13-P